DEPARTMENT OF THE INTERIOR

Fish and Wildlife Service

[FWS-R7-R-2009-N135; 70133-1265-0000-U4]

Izembek National Wildlife Refuge, Cold Bay, AK

AGENCY: Fish and Wildlife Service, Interior.

ACTION: Notice.

SUMMARY: We, the U.S. Fish and Wildlife Service (Service), intend to prepare an Environmental Impact Statement (EIS) for a proposed land exchange of certain lands owned by the State of Alaska and certain lands owned by the King Cove Corporation and evaluation of a road corridor through the Izembek National Wildlife Refuge and the Izembek Wilderness Area. We furnish this notice to advise the public and other agencies of our intentions and to seek information and suggestions on the scope of issues to be addressed in the EIS. Special mailings, newspaper articles, and other media releases will announce additional opportunities to provide written and oral input.

DATES: While we are initiating the EIS, progress will be dependent on specific appropriations to fund this effort. Public scoping meetings will be held in Washington, DC, as well as in Anchorage, King Cove, Cold Bay, Sand Point, and Nelson Lagoon in Alaska. At least 30 days prior to each meeting, we will announce dates, times, and locations.

ADDRESSES: Additional information concerning the proposed land exchange is at http://izembek.fws.gov/EIS.htm. Send your comments or requests for information by any of the following methods:

• E-mail: izembek_eis@fws.gov;

• Fax: Attn: Helen Clough, (907) 786-3965; or

• U.S. Mail: Helen Clough, Project Coordinator, U.S. Fish and Wildlife Service, 1011 East Tudor Rd., MS-231, Anchorage, AK 99503.

FOR FURTHER INFORMATION CONTACT: Helen Clough, 907-786-3357 (phone), or at the addresses above.

SUPPLEMENTARY INFORMATION:

The Izembek National Wildlife Refuge (417,533 acres) and the North Creek (8,452 acres) and Pavlof (1,447,264 acres) units of the Alaska Peninsula National Wildlife Refuge are located at the westernmost tip of the Alaska Peninsula. The 1,008,697-acre Unimak Island (the easternmost Aleutian Island of the Alaska Maritime National Wildlife Refuge) lies across the Isanotski Strait. To the north of the Izembek Refuge is the Bering Sea; to the south is the Pacific Ocean. The Alaska Peninsula is dominated by the rugged Aleutian Range, part of the Aleutian arc chain of volcanoes. Landforms include mountains, active volcanoes, U-shaped valleys, glacial moraines, low tundra wetlands, lakes, sand dunes, and lagoons. Elevations range from sea level to the 9,372-foot Shishaldin Volcano. Shishaldin Volcano is a designated National Natural Landmark. Several major lagoons are within the Izembek Refuge boundary. These lagoons contain some of the world's largest eelgrass beds. The lagoons are under the jurisdiction of the State of Alaska. Izembek Lagoon is designated the Izembek State Game Refuge. Birds from all over the Arctic funnel through Izembek Refuge each fall on their way to wintering grounds throughout the world. More than 98 percent of the world's Pacific black brant use Izembek Lagoon as a staging area for their fall migration to Mexico. Other birds that use the refuge include golden plovers, ruddy turnstones, western sandpipers, tundra swans, Steller's eiders, and emperor geese. The refuge also is home to large concentrations of brown bears and other large mammals such as caribou and wolves. The red, pink, chum, and silver salmon that use the waters within the refuge enrich the entire ecosystem with the nutrients they bring from the sea. The refuge also has a rich human history, from ancient settlements of Alaska Natives, through the 18th and 19th century Russian fur traders, to a World War II outpost. The Izembek Wilderness covers much of the refuge and includes pristine streams, extensive wetlands, steep mountains, tundra, and sand dunes, and provides high scenic, wildlife, and scientific values, as well as outstanding opportunities for solitude and primitive recreation.

The King Cove Corporation is an Alaska Native Village Corporation established under the Alaska Native Claims Settlement Act of 1971 (ANCSA; 43 U.S.C. 1601 et seq.) Under the authority of ANCSA, Congress granted to King Cove Corporation land entitlements within and adjacent to Izembek Refuge. The State of Alaska also owns lands, submerged lands, shorelands, and tidelands within and adjacent to Izembek and Alaska Peninsula Refuges, including the Izembek State Game Refuge.

Alaska Maritime National Wildlife Refuge stretches from the Arctic Ocean to the southeast panhandle of Alaska and protects breeding habitat for seabirds, marine mammals, and other wildlife on more than 2,500 islands, spires, rocks, and coastal headlands. Sitkinak Island, which lies within the boundaries of the Alaska Maritime National Wildlife Refuge, is primarily owned by the State of Alaska, with two parcels owned by the Service.

In the Omnibus Public Land Management Act of 2009 (H.R. 146, Subtitle E; the Act), Congress directs us to prepare an EIS under the National Environmental Policy Act of 1969, as amended (42 U.S.C. 4321 et seq.) and its implementing regulations (40 CFR parts 1500-1508) to evaluate the impacts of a proposed land exchange with the State of Alaska and the King Cove Corporation for the purpose of constructing a single-lane gravel road between the communities of King Cove and Cold Bay, Alaska. The land exchange would involve the removal of approximately 206 acres within the Izembek Wilderness portion of Izembek National Wildlife Refuge for the road corridor and approximately 1,600 acres of Federal land within the Alaska Maritime National Wildlife Refuge on Sitkinak Island. In exchange, we would receive approximately 43,093 acres of land owned by the State of Alaska and approximately 13,300 acres of land owned by the King Cove Corporation. These lands are located around Cold Bay and adjacent to the North Creek Unit of Alaska Peninsula National Wildlife Refuge.

The preparation of this EIS is to begin not later than 60 days after the Secretary receives notification by the State and the King Cove Corporation of their intention to exchange lands in accordance with the Act. The Secretary received notification by the King Cove Corporation on May 19, 2009, and by the State of Alaska on June 19, 2009. This notice initiates the process and opens the period for public scoping. Formal public involvement activities will begin when we receive funds appropriated to support this effort. At that time we will announce additional public involvement activities.

In accordance with Section 6402(b)(2)(B) of the Act, the EIS will analyze the proposed land exchange and the potential construction and operation of a road between the communities of King Cove and Cold Bay, Alaska, and will evaluate a specific road corridor through the Izembek Refuge that will be identified in consultation with the State of Alaska, the City of King Cove, and the Agdaagux Tribe of King Cove. The alternatives anticipated at this time include the existing situation (no land exchange or road construction) and the proposed land exchange and road construction and operation as outlined in the Act. In preparing the EIS, the Service will solicit comments from public locally, regionally, and nationally. As required in the Act, subsequent to the preparation of the EIS and in conjunction with the Record of Decision, the Secretary of the Interior will determine whether the land exchange (including the construction of the proposed road) is in the public interest.

Public Availability of Comments

Before including your address, phone number, e-mail address, or other personal identifying information in your comment, you should be aware that your entire comment—including your personal identifying information—may be made publicly available at any time. While you can ask us to withhold it from public review, we cannot guarantee we will be able to do so.

Dated: July 31, 2009.
Gary Edwards,
Acting Regional Director, U.S. Fish and Wildlife Service, Anchorage, Alaska.

[FR Doc. E9-18809 Filed 8-5-09; 8:45 am]

BILLING CODE 4310-55-P